DEPARTMENT OF VETERAMS AFFAIRS

Geriatrics and Gerontology Advisory Committee; Notice of Meeting

The Department of Veterans Affairs gives notice under Public Law 92-463 (Federal Advisory Committee Act) that a meeting of the Geriatrics and Gerontology Advisory Committee will be held at VA Central Office, 810 Vermont Avenue, NW., Washington, DC on April 25-26, 2007. The meeting will be held in Room 930 from 8:30 a.m. to 4:30 p.m. on April 25 and from 8 a.m. to 12 noon on April 26. This meeting is open to the public.

The purpose of the Committee is to provide advie to the Secretary of Veterans Affairs and the Under Secretary for Health on all matters pertaining to geriatrics and grontology by assessing the capability of VA health care facilities to meet the medical, psychological, and social needs of older veterans and by evaluating VA facilities designated as Geriatric Research, Education, and Clinical Centers.

The meeting will feature presentations on VA research initiatives in areas that affect aging and dementia treatment initiatives. Other topics will include Primary Care Geriatrics Performance Measures and Geriatric Primary Care Panel Size Analysis, and performance oversight of the VA Geriatric Research, Education, and Clinical Centers.

No time will be allocated at this meeting for receiving oral presentations from the public. Interested parties should provide written comments for review by the Committee not less than 10 days in advance of the meeting to Mrs. Marcia Holt-Delaney, Office of Geriatrics and Extended Care (114), Department of Veterans Affairs, 810 Vermont Avenue, NW., Washington, DC 20420. Individuals who wish to attend the meeting should contact Mr. Holt-Delaney, Program Analyst, at (202) 273-8540.

Dated: January 22, 2007.
By Direction of the Secretary.
E. Philip Riggin,
Committee Management Officer.

[FR Doc. 07-352 Filed 1-26-07; 8:45 am]

BILLING CODE 8320-01-M